DEPARTMENT OF TRANSPORTATION

Office of the Secretary

Application of Eos Airlines, Inc. for Certificate Authority

AGENCY: Department of Transportation.

ACTION: Notice of order to show cause (Order 2005-8-4) Dockets OST-2004-19617.

SUMMARY: The Department of Transportation is directing all interested persons to show cause why it should not issue an order finding Eos Airlines, Inc., fit, willing, and able, and awarding it a certificate of public convenience and necessity to engage in foreign scheduled passenger air transportation of persons, property and mail.

DATES: Persons wishing to file objections should do so no later than August 19, 2005.

ADDRESSES: Objections and answers to objections should be filed in Dockets OST-2004-19617 and addressed to the Department of Transportation Dockets (SVC-124.1, Room PL-401), U.S. Department of Transportation, 400 Seventh Street, SW., Washington, DC 20590, and should be served upon the parties listed in Attachment A to the order.

FOR FURTHER INFORMATION CONTACT: Mr. Trace Atkinson, Air Carrier Fitness Division (X-56, Room 6401), U.S. Department of Transportation, 400 Seventh Street, SW., Washington, DC 20590, (202) 366-3176.

Dated: August 5, 2005.
Karan K. Bhatia,
Assistant Secretary for Aviation and International Affairs.

[FR Doc. 05-16025 Filed 8-11-05; 8:45 am]

BILLING CODE 4910-62-P